DEPARTMENT OF COMMERCE

International Trade Administration

[C-122-868, C-552-826]

Utility Scale Wind Towers From Canada and the Socialist Republic of Vietnam: Final Results of the Expedited First Sunset Reviews of the Countervailing Duty Orders

AGENCY: Enforcement and Compliance, International Trade Administration, Department of Commerce.

SUMMARY: The U.S. Department of Commerce (Commerce) finds that revocation of the countervailing duty (CVD) order on utility scale wind towers from Canada and the Socialist Republic of Vietnam (Vietnam) would be likely to lead to continuation or recurrence of countervailable subsidies at the levels indicated in the “Final Results of Sunset Reviews” section of this notice.

DATES: Applicable January 9, 2026.

FOR FURTHER INFORMATION CONTACT: David De Falco, Trade Agreements Policy and Negotiations, Enforcement and Compliance, International Trade Administration, U.S. Department of Commerce, 1401 Constitution Avenue NW, Washington, DC 20230; telephone: (202) 482-2178.

SUPPLEMENTARY INFORMATION:

Background

On August 26, 2020, Commerce published the Orders on utility scale wind towers from Canada and Vietnam.¹ On July 1, 2025, Commerce published the notice of initiation of the first sunset reviews of the Orders, pursuant to section 751(c) of the Tariff Act of 1930, as amended (the Act), and 19 CFR 351.218(c).²

¹ See Utility Scale Wind Towers from Canada, Indonesia, and the Socialist Republic of Vietnam: Amended Final Affirmative Countervailing Duty Determination and Countervailing Duty Orders, 85 FR 52543 (August 26, 2020) (collectively, Orders).

² See Initiation of Five-Year (Sunset) Reviews, 90 FR 28722 (July 1, 2025).

On July 16, 2025, Commerce received a notice of intent to participate in this review from the domestic interested parties,³ within the deadline specified in 19 CFR 351.218(d)(1)(i).⁴ The domestic interested parties claimed interested party status within the meaning of section 771(9)(F) of the Act and 19 CFR 351.102(b)(29)(v) as a coalition of U.S. producers of the domestic like product.⁵ On July 21, 2025, Commerce notified the U.S. International Trade Commission (ITC) that it had received a notice of intent to participate from the domestic interested parties.⁶

³ The domestic interested parties are the Wind Tower Trade Coalition (the Coalition), whose members are Arcosa Wind Towers, Inc. and Broadwind Inc.

⁴ See Domestic Interested Parties' Letters, “Utility Scale Wind Towers from Canada: Notice of Intent to Participate in Sunset Review,” dated July 16, 2025; and “Utility Scale Wind Towers from the Socialist Republic of Vietnam: Notice of Intent to Participate in Sunset Review,” dated July 16, 2025.

⁵ Id. at 2.

⁶ See Commerce's Letter, “Sunset Reviews Initiated on July 1, 2025,” dated July 21, 2025.

On July 30, 2025, Commerce received an adequate substantive response from the domestic interested parties within the 30-day deadline specified in 19 CFR 351.218(d)(3)(i).⁷ Commerce did not receive a substantive response from either the Government of Canada or the Government of Vietnam, or from a respondent interested party to this proceeding. Therefore, on August 22, 2025, Commerce notified the U.S. International Trade Commission (ITC) that it did not receive an adequate substantive response from respondent interested parties.⁸ As a result, Commerce conducted an expedited (120-day) sunset review of the Order, pursuant to section 751(c)(3)(B) of the Act and 19 CFR 351.218(e)(1)(ii)(B)(2) and (C)(2).

⁷ See Domestic Interested Parties' Letter, “Utility Scale Wind Towers from Canada: Substantive Response to Notice of Initiation,” dated July 30, 2025; and “Utility Scale Wind Towers from the Socialist Republic of Vietnam: Substantive Response to Notice of Initiation,” dated July 30, 2020.

⁸ See Commerce's Letter, “Sunset Reviews Initiated July 1, 2025,” dated August 22,2025.

Due to the lapse in appropriations and Federal Government shutdown, on November 14, 2025, Commerce tolled all deadlines in administrative proceedings by 47 days.⁹ Additionally, due to a backlog of documents that were electronically filed via Enforcement and Compliance's Antidumping and Countervailing Duty Centralized Electronic Service System (ACCESS) during the Federal Government shutdown, on November 24, 2025, Commerce tolled all deadlines in administrative proceedings by an additional 21 days.¹⁰ Accordingly, the deadline for these final results is now January 5, 2026.

⁹ See Memorandum, “Deadlines Affected by the Shutdown of the Federal Government,” dated November 14, 2025.

¹⁰ See Memorandum, “Tolling of all Case Deadlines,” dated November 24, 2025.

Scope of the Orders

The product covered by these Orders is utility scale wind towers from Canada and Vietnam. For the full description of the scope of the Orders, see the Issues and Decisions Memorandum.¹¹

¹¹ See Memorandum, “Issues and Decision Memorandum for the Final Results of the Expedited First Sunset Reviews of the Countervailing Duty Orders on Utility Scale Wind Towers from Canada and the Socialist Republic of Vietnam,” dated concurrently with, and hereby adopted by, this notice (Issues and Decision Memorandum).

Analysis of Comments Received

A complete discussion of all issues raised in these sunset reviews, including the likelihood of continuation or recurrence of subsidization and the countervailable subsidy rates likely to prevail if the Order were to be revoked, is contained in the accompanying Issues and Decision Memorandum.¹² A list of the topics discussed in the Issues and Decision Memorandum is attached as an appendix to this notice. The Issues and Decision Memorandum is a public document and is on file electronically via ACCESS, which is available to registered users at https://access.trade.gov. In addition, complete versions of the Issues and Decision Memorandum can be accessed directly at https://access.trade.gov/public/FRNoticesListLayout.aspx.

¹² Id.

Final Results of Sunset Reviews

Pursuant to sections 751(c) and 752(b) of the Act, Commerce determines that revocation of the Orders would be likely to lead to continuation or recurrence of countervailable subsidies at the following net countervailable subsidy rates:

Canada
Producers/exporters | Net countervailable subsidy rate (percent ad valorem)
Marmen Inc., MarmenEnergie Inc. and Gestion Marmen Inc | 1.13
All Others | 1.13

Vietnam
Producers/exporters | Net countervailable subsidy rate (percent ad valorem)
CS Wind Vietnam Co., Ltd. (a.k.a. CS Wind Tower Co., Ltd.) | 2.84
All Others | 2.84

Notification Regarding Administrative Protective Orders (APOs)

This notice also serves as the only reminder to parties subject to an APO of their responsibility concerning the return or destruction of proprietary information disclosed under APO in accordance with 19 CFR 351.305. Timely notification of the return or destruction of APO materials, or conversion to judicial protective, orders is hereby requested. Failure to comply with the regulations and terms of an APO is a violation which is subject to sanction.

Notification to Interested Parties

We are issuing and publishing these final results in accordance with sections 751(c), 752(b), and 777(i)(1) of the Act, and 19 CFR 351.221(c)(5)(ii).

Dated: January 5, 2026.
Abdelali Elouaradia,
Deputy Assistant Secretary for Enforcement and Compliance.

Appendix

List of Topics Discussed in the Issues and Decision Memorandum

I. Summary

II. Background

III. Scope of the Orders

IV. History of the Orders

V. Legal Framework

VI. Discussion of the Issues

1. Likelihood of Continuation or Recurrence of a Countervailable Subsidy

2. Net Countervailable Subsidy Rates Likely to Prevail

3. Nature of the Subsidies

VII. Final Results of Sunset Reviews

VIII. Recommendation

[FR Doc. 2026-00228 Filed 1-8-26; 8:45 am]

BILLING CODE 3510-DS-P